DEPARTMENT OF COMMERCE

Submission for OMB Review; Comment Request

The Department of Commerce has submitted to the Office of Management and Budget (OMB) for clearance for following proposal for collection of information under the provisions of the Paperwork Reduction Act (44 U.S.C. Chapter 3506(c)(2)(A).

Agency: Office of Human Resources Management.

Title: Commerce Opportunities On-Line (COOL).

Form Number: None.

OMB Number: 0690-0019.

Type of Request: Regular submission.

Burden Hours: 32,832.

Number of Respondents: 32,832.

Average Hours Per Response: 1 hour.

Needs and Uses: Commerce Opportunities On-Line (COOL) is a web-based software system that automates the vacancy announcement, application intake, application evaluation, and application referral processes, for positions in the Department of Commerce (DOC).

COOL will provide the DOC with a more user-friendly on-line employment application process and enable the DOC to process hiring actions in a more efficient and timely manner. The on-line application will provide an electronic real time candidate list that will allow the DOC to review applications from applicants almost instantaneously. Given the immediate hiring needs of the DOC, time consumed in the mail distribution system or paper review of applications delays the decision-making process by several weeks. The implementation of the COOL electronic application will result in increased speed and accuracy in the employment process. It will also streamline labor and reduce costs.

Affected Public: Individuals or households, Federal Government.

Frequency: On occasion.

Respondent's Obligation: Required to obtain or maintain benefits.

OMB Desk Officer: David Rostker, (202) 395-3897.

Copies of the above information collection proposal can be obtained by calling or writing Madeleine Clayton, Departmental Paperwork Clearance Officer, Department of Commerce, Room 6086, 14th and Constitution Avenue, NW., Washington, DC 20230 (or via the Internet at Mclayton@doc.gov).

Written comments and recommendations for the proposed information collection should be sent within 30 days of publication of the notice to David Rostker, OMB Desk Officer,Room 10202, New Executive Office Building, Washington, DC 20503.

Dated: May 11, 2001.
Madeleine Clayton,
Departmental Paperwork Clearance Officer, Office of the Chief Information Officer.

[FR Doc. 01-12393 Filed 5-16-01; 8:45 am]

BILLING CODE 3510-17-P